DEPARTMENT OF ENERGY

Federal Energy Regulatory Commission

Combined Notice of Filings #3

Take notice that the Commission received the following exempt wholesale generator filings:

Docket Numbers: EG26-151-000.

Applicants: Eagle Creek Solar Park LLC.

Description: Eagle Creek Solar Park LLC submits Notice of Self-Certification of Exempt Wholesale Generator Status.

Filed Date: 2/13/26.

Accession Number: 20260213-5306.

Comment Date: 5 p.m. ET 3/6/26.

Docket Numbers: EG26-152-000.

Applicants: EDPR CA Solar Park VI LLC.

Description: EDPR CA Solar Park VI LLC submits Notice of Self-Certification of Exempt Wholesale Generator Status.

Filed Date: 2/13/26.

Accession Number: 20260213-5307.

Comment Date: 5 p.m. ET 3/6/26.

Docket Numbers: EG26-153-000.

Applicants: EDPR Scarlet III LLC.

Description: EDPR Scarlet III LLC submits Notice of Self-Certification of Exempt Wholesale Generator Status.

Filed Date: 2/13/26.

Accession Number: 20260213-5308.

Comment Date: 5 p.m. ET 3/6/26.

Docket Numbers: EG26-154-000.

Applicants: Sonrisa BESS LLC.

Description: Sonrisa BESS LLC submits Notice of Self-Certification of Exempt Wholesale Generator Status.

Filed Date: 2/13/26.

Accession Number: 20260213-5309.

Comment Date: 5 p.m. ET 3/6/26.

Take notice that the Commission received the following electric rate filings:

Docket Numbers: ER25-3436-000.

Applicants: Bel Air Solar I, LLC.

Description: Refund Report: Bel_Air_Solar_I_Refund_Report to be effective N/A.

Filed Date: 2/12/26.

Accession Number: 20260212-5162.

Comment Date: 5 p.m. ET 3/5/26.

Docket Numbers: ER26-640-001.

Applicants: Golden Fields Solar VI, LLC.

Description: Compliance filing: Compliance Filing Regarding Effective Date to be effective 12/31/9998.

Filed Date: 2/17/26.

Accession Number: 20260217-5241.

Comment Date: 5 p.m. ET 3/10/26.

Docket Numbers: ER26-1386-001.

Applicants: PJM Interconnection, L.L.C.

Description: Tariff Amendment: Amended Effective Date for Partially Executed Original NUCRA, SA No. 7851 to be effective 4/15/2026.

Filed Date: 2/17/26.

Accession Number: 20260217-5231.

Comment Date: 5 p.m. ET 3/10/26.

Docket Numbers: ER26-1396-000.

Applicants: PJM Interconnection, L.L.C.

Description: § 205(d) Rate Filing: Amendment to ISA, SA No. 3753; Project Identifier No. AF1-051 to be effective 4/15/2026.

Filed Date: 2/13/26.

Accession Number: 20260213-5253.

Comment Date: 5 p.m. ET 3/6/26.

Docket Numbers: ER26-1397-000.

Applicants: Midcontinent Independent System Operator, Inc.

Description: § 205(d) Rate Filing: 2026-02-13_Att X—Surplus Improvement to be effective 4/15/2026.

Filed Date: 2/13/26.

Accession Number: 20260213-5261.

Comment Date: 5 p.m. ET 3/6/26.

Docket Numbers: ER26-1398-000.

Applicants: Duke Energy Florida, LLC, Duke Energy Carolinas, LLC.

Description: § 205(d) Rate Filing: Duke Energy Carolinas, LLC submits tariff filing per 35.13(a)(2)(iii: DEF—Revisions to Attachment J to be effective 4/15/2026.

Filed Date: 2/13/26.

Accession Number: 20260213-5267.

Comment Date: 5 p.m. ET 3/6/26.

Docket Numbers: ER26-1399-000

Applicants: Duke Energy Progress, LLC, Duke Energy Carolinas, LLC.

Description: § 205(d) Rate Filing: Duke Energy Carolinas, LLC submits tariff filing per 35.13(a)(2)(iii: DEC-DEP—Revisions to Attachment K—Joint OATT to be effective 4/15/2026.

Filed Date: 2/13/26.

Accession Number: 20260213-5275.

Comment Date: 5 p.m. ET 3/6/26.

Docket Numbers: ER26-1400-000.

Applicants: PJM Interconnection, L.L.C.

Description: § 205(d) Rate Filing: Original GIA, SA No. 7870; Project Identifier No. AG1-118 to be effective 4/15/2026.

Filed Date: 2/13/26.

Accession Number: 20260213-5280.

Comment Date: 5 p.m. ET 3/6/26.

Docket Numbers: ER26-1401-000.

Applicants: Alabama Power Company, Georgia Power Company, Mississippi Power Company.

Description: § 205(d) Rate Filing: Alabama Power Company submits tariff filing per 35.13(a)(2)(iii: Amendment of EDF Renewables (Rock House Solar) LGIA Filing to be effective 2/13/2026.

Filed Date: 2/13/26.

Accession Number: 20260213-5286.

Comment Date: 5 p.m. ET 3/6/26.

Docket Numbers: ER26-1402-000.

Applicants: El Paso Electric Company.

Description: § 205(d) Rate Filing: Attachment M and N Clean Version of Approved OATT Provisions to be effective 6/24/2025.

Filed Date: 2/17/26.

Accession Number: 20260217-5004.

Comment Date: 5 p.m. ET 3/10/26.

Docket Numbers: ER26-1403-000.

Applicants: Bel Air Solar I, LLC.

Description: § 205(d) Rate Filing: Bel_Air_Solar_I_MBRA_App_Supp to be effective 2/18/2026.

Filed Date: 2/17/26.

Accession Number: 20260217-5005.

Comment Date: 5 p.m. ET 3/10/26.

Docket Numbers: ER26-1404-000.

Applicants: Ohio Power Company.

Description: § 205(d) Rate Filing: AEPSC submits Facilities Agreements (FAs)—SA No. 1336 to be effective 3/1/2026.

Filed Date: 2/17/26.

Accession Number: 20260217-5053.

Comment Date: 5 p.m. ET 3/10/26.

Docket Numbers: ER26-1405-000.

Applicants: Southwest Power Pool, Inc.

Description: § 205(d) Rate Filing: Revisions to Attachment AE to Enhance Regulation Selection Process to be effective 12/31/9998.

Filed Date: 2/17/26.

Accession Number: 20260217-5060.

Comment Date: 5 p.m. ET 3/10/26.

Docket Numbers: ER26-1406-000.

Applicants: PJM Interconnection, L.L.C.

Description: § 205(d) Rate Filing: Original NUCRA, Network Upgrade No. n9204.0, Service Agreement No. 7862 to be effective 12/31/9998.

Filed Date: 2/17/26.

Accession Number: 20260217-5083.

Comment Date: 5 p.m. ET 3/10/26.

Docket Numbers: ER26-1407-000.

Applicants: PJM Interconnection, L.L.C.

Description: § 205(d) Rate Filing: Amendment to GIA, SA No. 7337; Project Identifier No. AF2-238 to be effective 4/19/2026.

Filed Date: 2/17/26.

Accession Number: 20260217-5087.

Comment Date: 5 p.m. ET 3/10/26.

Docket Numbers: ER26-1408-000.

Applicants: PacifiCorp.

Description: § 205(d) Rate Filing: Ochoco Const Agt—McKay Road (RS No. 806) to be effective 4/19/2026.

Filed Date: 2/17/26.

Accession Number: 20260217-5090.

Comment Date: 5 p.m. ET 3/10/26.

Docket Numbers: ER26-1409-000.

Applicants: PJM Interconnection, L.L.C.

Description: § 205(d) Rate Filing: Amendment to ISA No. 6278; Queue No. AD2-048 to be effective 4/19/2026.

Filed Date: 2/17/26.

Accession Number: 20260217-5106.

Comment Date: 5 p.m. ET 3/10/26.

Docket Numbers: ER26-1410-000.

Applicants: Southwest Power Pool, Inc.

Description: § 205(d) Rate Filing: 3215R18 People's Electric Cooperative NITSA NOA to be effective 12/1/2025.

Filed Date: 2/17/26.

Accession Number: 20260217-5110.

Comment Date: 5 p.m. ET 3/10/26.

Docket Numbers: ER26-1411-000.

Applicants: Louisville Gas and Electric Company.

Description: § 205(d) Rate Filing: LGEKU EKPC 5th Interconnection Agreement to be effective 2/5/2026.

Filed Date: 2/17/26.

Accession Number: 20260217-5127.

Comment Date: 5 p.m. ET 3/10/26.

Docket Numbers: ER26-1412-000.

Applicants: Portland General Electric Company.

Description: § 205(d) Rate Filing: PGE Concurrence Filing Colstrip Haymaker LGIA to be effective 4/12/2024.

Filed Date: 2/17/26.

Accession Number: 20260217-5149.

Comment Date: 5 p.m. ET 3/10/26.

Docket Numbers: ER26-1413-000.

Applicants: PJM Interconnection, L.L.C.

Description: § 205(d) Rate Filing: Original NUCRA, Network Upgrade n6872, Service Agreement No. 7846 to be effective 12/31/9998.

Filed Date: 2/17/26.

Accession Number: 20260217-5154.

Comment Date: 5 p.m. ET 3/10/26.

Docket Numbers: ER26-1414-000.

Applicants: Southwest Power Pool, Inc.

Description: § 205(d) Rate Filing: Revisions to Modify List of Resources to be Included in the FSE for WAPA-CRSP to be effective 4/1/2026.

Filed Date: 2/17/26.

Accession Number: 20260217-5157.

Comment Date: 5 p.m. ET 3/10/26.

Docket Numbers: ER26-1415-000.

Applicants: PJM Interconnection, L.L.C.

Description: § 205(d) Rate Filing: Original NUCRA, Network Upgrade No. n9195; Service Agreement No. 7849 to be effective 12/31/9998.

Filed Date: 2/17/26.

Accession Number: 20260217-5176.

Comment Date: 5 p.m. ET 3/10/26.

Docket Numbers: ER26-1416-000.

Applicants: Pacific Gas and Electric Company.

Description: § 205(d) Rate Filing: TO: Order No. 898 revisions to Formula Rate Model to be effective 1/1/2025.

Filed Date: 2/17/26.

Accession Number: 20260217-5177.

Comment Date: 5 p.m. ET 3/10/26.

Docket Numbers: ER26-1417-000.

Applicants: Golden Fields Solar III, LLC.

Description: Tariff Amendment: Notice of Cancellation to be effective 2/2/2026.

Filed Date: 2/17/26.

Accession Number: 20260217-5191.

Comment Date: 5 p.m. ET 3/10/26.

Docket Numbers: ER26-1418-000.

Applicants: PJM Interconnection, L.L.C.

Description: § 205(d) Rate Filing: Partially Executed Original NUCRA, SA No. 7866; Network Upgrade No. n9523.0 to be effective 12/31/9998.

Filed Date: 2/17/26.

Accession Number: 20260217-5199.

Comment Date: 5 p.m. ET 3/10/26.

Docket Numbers: ER26-1419-000.

Applicants: PJM Interconnection, L.L.C.

Description: Tariff Amendment: Notice of Cancellation of WMPA, SA No. 6129; Project Identifier No. AF1-287 to be effective 4/19/2026.

Filed Date: 2/17/26.

Accession Number: 20260217-5217.

Comment Date: 5 p.m. ET 3/10/26.

Docket Numbers: ER26-1420-000.

Applicants: PJM Interconnection, L.L.C.

Description: § 205(d) Rate Filing: Original NUCRA, Network Upgrade No. n9107.0; Service Agreement No. 7848 to be effective 12/31/9998.

Filed Date: 2/17/26.

Accession Number: 20260217-5222.

Comment Date: 5 p.m. ET 3/10/26.

Docket Numbers: ER26-1421-000.

Applicants: PJM Interconnection, L.L.C.

Description: § 205(d) Rate Filing: Partially Executed Original NUCRA, SA No. 7853; Network Upgrade No. n9522.0 to be effective 12/31/9998.

Filed Date: 2/17/26.

Accession Number: 20260217-5223.

Comment Date: 5 p.m. ET 3/10/26.

Docket Numbers: ER26-1422-000.

Applicants: Santa Teresa Storage, LLC.

Description: § 205(d) Rate Filing: Application for Market-Based Rate Authority to be effective 5/1/2026.

Filed Date: 2/17/26.

Accession Number: 20260217-5227.

Comment Date: 5 p.m. ET 3/10/26.

Docket Numbers: ER26-1423-000.

Applicants: Midcontinent Independent System Operator, Inc.

Description: § 205(d) Rate Filing: 2026-02-17_Attachment P Clean Up to be effective 4/19/2026.

Filed Date: 2/17/26.

Accession Number: 20260217-5243.

Comment Date: 5 p.m. ET 3/10/26.

The filings are accessible in the Commission's eLibrary system (https://elibrary.ferc.gov/idmws/search/fercgensearch.asp) by querying the docket number.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

For public inquiries and assistance with making filings such as interventions, comments, or requests for rehearing, contact the Office of Public Participation at (202) 502-6595 or OPP@ferc.gov.

Dated: February 17, 2026.
Carlos D. Clay,
Deputy Secretary.

[FR Doc. 2026-03399 Filed 2-19-26; 8:45 am]

BILLING CODE 6717-01-P